DEPARTMENT OF HEALTH AND HUMAN SERVICES

Centers for Disease Control and Prevention

[60Day-07-0658]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Maryam Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Capacity Building Assistance (CBA) Information, Collection, Reporting, and Monitoring (OMB# 0920-0658)—three year extension of the currently approved collection—National Center for HIV and AIDS, Viral Hepatitis, Sexually Transmitted Disease, Tuberculosis Prevention (NCHHSTP), Centers for Disease Control and Prevention (CDC).

Background and Brief Description

The purpose of this request is to obtain OMB clearance to extend the 3-year clearance for information collection to monitor the HIV prevention activities of CBA provider grantees funded by CDC to provide HIV prevention CBA from April, 1 2004 through March 31, 2009. Capacity building is a key strategy for the promotion and sustainability of health prevention programs. Capacity building generally refers to the skills, infrastructure, and resources of organizations and communities that are necessary to effect and maintain behavior change, thus reducing the level of risk for disease, disability, and injury. CDC is responsible for monitoring and evaluating HIV prevention activities conducted under these cooperative agreement numbers 04019, 05015, and 06608. Reporting and monitoring forms have been used to collect information that assists in enhancing and assuring quality programming. CDC requires current information regarding CBA activities and services supported through these cooperative agreements. Therefore, forms such as the Trimester Interim Progress Report, CBA Notification Form, CBA Completion Form, and the CBA Training Events Report are considered a critical component of the monitoring/evaluation process. Because this program encompasses approximately 32 CBA provider organizations, there is a continued need for a standardized system for reporting individual episodes of CBA delivered by all CBA provider grantees. The information collected from the Trimester Progress Report, CBA Notification, CBA Completion Form, and the CBA Training Events Report, will allow CDC to further identify problems and technical assistance needs of community-based organization CBO, or CBA grantees in a timely fashion and subsequently improve the effectiveness of CBA program activities and to ensure that they are aligned with national goals. The data collected using the CBA Notification and Completion Forms, and the Training Events Report are now being collected via a Web portal (http://www.cdc.gov/hiv/cba) that has gone through a Certification and Accreditation process. Continued collection of this data in addition to the Trimester Progress Report will assist CDC, to aggregate data, and to discern and refine national goals and objectives for HIV prevention capacity building. This information collection process is also valuable for grantees as a management tool to routinely examining CBA program performance by assessing strengths and weaknesses in line with the CBA program, performance indicators, and national objectives.

It is estimated that form A (will require 4 hours of preparation by the respondent, form B will require 15 minutes of preparation by the respondent, and form C will require 30 minutes of preparation by the respondent, and Form D will require 2 hours of preparation by the respondent. In aggregate, report preparation requires approximately 1952 burden hours by each respondent. There is no cost to respondents other than their time.

Estimate of Annualized Burden Hours
Form name | Number of respondents | Number of responses per respondent | Average burden hours per response | Response burden (in hours)
Form A: CBA Trimester Report | 32 Grantees | 3 | 4 | 384
Form B: CBA Notification Form | 32 CBA Provider Grantees | 50 | 15/60 | 400
Form C: CBA Completion Form | 32 CBA Provider Grantees | 25 | 30/60 | 400
Form D: CBA Training Events Report | 32 CBA Provider Grantees | 12 | 2 | 768
Total |  |  |  | 1952

Dated: May 18, 2007.
Maryam Daneshvar,
Acting Reports Clearance Officer, Centers for Disease Control and Prevention.

[FR Doc. E7-10031 Filed 5-23-07; 8:45 am]

BILLING CODE 4163-18-P